DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 20, 2004.

ADDRESSES: Written comments and recommendations on the proposed information collection should be sent to, U.S. Army Corps of Engineers, 441 G Street, NW., Washington, DC 20314-1000, ATTN: CECW-CO or by e-mail to Margaret.E.Gaffney-Smith@usace.army.mil. Consideration will be given to all comments received within 60 days of the date of publication of this notice.

FOR FURTHER INFORMATION CONTACT: To request more information on this proposed information collection or to obtain a copy of the proposal and associated collection instruments, please write to the above address, or call Department of the Army Reports clearance officer at (703) 325-8433.

Title, Associated Form, and OMB Number: Application for a Department of the Army Permit; ENG Form 4345, OMB Control Number 0710-0003.

Needs and Uses: Information collected is used to evaluate, as required by law, proposed construction or filing in waters of the United States that results in impacts to the aquatic environment and nearby properties, and to determine if issuance of a permit is in the public interest. Respondents are private landowners, businesses, non-profit organizations, and government agencies.

Affected Public: Individuals or households; business or other for-profit; not-for-profit institutions; farms; Federal government; State; local or tribal government.

Annual Burden Hours: 155,000.

Number of Respondents: 15,500.

Responses Per Respondent: 1.

Average Burden Per Response: 10 hours.

Frequency: On occasion.

SUPPLEMENTARY INFORMATION: The Corps of Engineers is required by three federal laws, passed by Congress, to regulate construction-related activities in waters of the United States. This is accomplished through the review of applications for permits to do this work.

Brenda S. Bowen,
Alternate Army Federal Register Liaison Officer.

[FR Doc. 04-16552 Filed 7-20-04; 8:45 am]

BILLING CODE 3710-08-M